DEPARTMENT OF LABOR

Employment and Training Administration

[TA-W-39,137]

Weitech, Inc., Including Temporary Workers of Labor Ready, Sisters, OR; Amended Certification Regarding Eligibility to Apply for Worker Adjustment Assistance

In accordance with Section 223 of the Trade Act of 1974 (19 U.S.C. 2273) the Department of Labor issued a Certification of Eligibility to Apply for Worker Adjustment Assistance on August 24, 2001, applicable to workers of Weitech, Inc., Sisters, Oregon. The notice will be published soon in the Federal Register.

At the request of the State agency, the Department reviewed the certification for workers of the subject firm. Information provided by the company shows that temporary workers of Labor Ready were employed at Weitech, Inc. to produce electronic pest repellers at the Sisters, Oregon location of the subject firm.

Based on these findings, the Department is amending the certification to include temporary workers of Labor Ready employed at Weitech, Inc., Sisters, Oregon.

The intent of the Department's certification is to include all workers of Weitech, Inc. adversely affected by imports.

The amended notice applicable to TA-W-39,137 is hereby issued as follows:

All workers of Weitech, Inc., Sisters, Oregon including temporary workers of Labor Ready, Sisters, Oregon engaged in employment related to the production of electronic pest repellers at Weitech, Inc., Sisters, Oregon who became totally or partially separated from employment on or after April 5, 2000, through August 24, 2003, are eligible to apply for adjustment assistance under Section 223 of the Trade Act of 1974.

Signed at Washington, DC this 3rd day of July, 2002.
Linda G. Poole,
Certifying Officer, Division of Trade Adjustment Assistance.

[FR Doc. 02-18064 Filed 7-17-02; 8:45 am]

BILLING CODE 4510-30-P